FEDERAL COMMUNICATIONS COMMISSION

Notice of Public Information Collection(s) Being Reviewed by the Federal Communications Commission, Comments Requested

January 31, 2001.

SUMMARY: The Federal Communications Commission, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before April 9, 2001. If you anticipate that you will be submitting comments, but find it difficult to do so within the period of time allowed by this notice, you should advise the contact listed below as soon as possible.

ADDRESSES: Direct all comments to Les Smith, Federal Communications Commissions, 445 12th Street, S.W., Room 1-A804, Washington, DC 20554 or via the Internet to lesmith@fcc.gov.

FOR FURTHER INFORMATION CONTACT: For additional information or copies of the information collections contact Les Smith at (202) 418-0217 or via the Internet at lesmith@fcc.gov.

SUPPLEMENTARY INFORMATION: OMB Control No.: 3060-0971.

Title: Numbering Resource Optimization, Second Report and Order, Order on Reconsideration in CC Docket No. 96-98 and CC Docket No. 99-200, & Second Further Notice of Proposed Rulemaking in CC Docket No. 99-200 (Second Report and Order).

Form No.: N/A.

Type of Review: Extension.

Respondents: Business or Other for Profit; State, Local or Tribal government.

Number of Respondents: 50,500.

Estimated Time Per Response: .035 hrs (avg.).

Total Annual Burden: 14,000 hours.

Estimated Annual Reporting and Recordkeeping Cost Burden: $0.

Frequency of Response: On occasion; Third party disclosure.

Needs and Uses: The Second Report and Order in CC Docket Nos.: 99-200 and 96-98, released December 29, 2000 requires that carriers that report forecast and utilization data semi-annually to the North American Numbering Plan Administrator (NANPA) or the Pooling Administrator duplicate such data for state commissions upon request and that to request a “for cause “ audit of a carrier, the NANPA, the Pooling Administrator or a state commission must draft a request to the auditor stating the reason for the request, such as misleading or inaccurate data, and attach supporting documentation. The information will be used by the FCC, state commissions, the NANPA and the Pooling Administrator to verify the validity and accuracy of such data and to assist state commissions in carrying out their numbering responsibilities, such as area code relief.

OMB Approval No.: 3060-0320.

Title: Section 73.1350 Transmission System Operation.

Form No.: n/a.

Type of Review: Extension of currently approved collection.

Respondents: Businesses or other for-profit, not-for-profit institutions.

Number of Respondents: 411.

Estimated Hours Per Response: 0.5 hours.

Frequency of Response: On occasion.

Cost to Respondents: $0.

Estimated Total Annual Burden: 206.

Needs and Uses: Section 73.1350(g) requires licensees to submit a notification to the FCC in Washington, D.C. whenever a transmission system control point is established at a location other than at the main studio or transmitter within 3 days of the initial use of that point. This notification is not required if responsible station personnel can be contacted at the transmitter or studio site during hours of operation. The data is used by FCC staff to maintain complete operating information regarding licensees to be used in the event that FCC field staff needs to contact the station about interference.

Federal Communications Commission.
Magalie Roman Salas,
Secretary.

[FR Doc. 01-3176 Filed 2-6-01; 8:45 am]

BILLING CODE 6712-01-U